NUCLEAR REGULATORY COMMISSION

[Docket No. 50-139; EA-05-230]

In the Matter of the University of Washington; (The University of Washington Research Reactor); Order Modifying Requirements for Dismantling of Facility and Disposition of Component Parts

I

The University of Washington (UW or the licensee) is the holder of Facility License No. R-73 issued by the Nuclear Regulatory Commission (NRC or Commission) pursuant to 10 CFR part 50. The license authorizes possession but not operation of the UW Research Reactor (the facility) in accordance with conditions specified therein. The facility is located on the licensee's campus in Seattle, Washington.

II

By application dated August 2, 1994, the licensee requested authorization to dismantle the UW Research Reactor and to dispose of the component parts, in accordance with the decommissioning plan (DP) submitted as part of the application. The NRC reviewed the application with respect to the provisions of the Commission's rules and regulations and found that the dismantling and disposal of component parts as stated in the licensee's DP are consistent with the regulations in 10 CFR Chapter 1 and are not inimical to the common defense and security or to the health and safety of the public. On May 1, 1995, the Commission issued an “Order Authorizing Dismantling of Facility and Disposition of Component Parts” (the 1995 order) to the licensee to dismantle the UW Research Reactor facility covered by Facility License No. R-73, as amended, and dispose of the component parts in accordance with its DP and the Commission's rules and regulations.

By letter dated October 27, 2004, as supplemented on March 18 and September 28, 2005, the licensee requested that the NRC amend the 1995 order to allow the licensee to make certain changes to the DP without prior NRC approval.

III

The licensee requested that the provisions of 10 CFR 50.59 be made applicable to the DP for the UW Research Reactor to allow the licensee to make certain changes to the DP without prior Commission approval. The licensee made this request to allow flexibility during decommissioning in making changes which are of minimal significance to safety. At the time the UW DP was approved, the DP was a stand-alone document approved by the order. The DP was not part of the safety analysis report and there was no process in the DP or the 1995 order to allow changes to be made to the DP without prior Commission approval. The UW was ordered to dismantle the facility and dispose of the component parts in accordance with the DP and the Commission's rules and regulations. The regulations in 10 CFR 50.59 did not apply to the UW DP because 10 CFR 50.59 applies to changes to the facility safety analysis report. In addition, 10 CFR 50.59 does not apply to the UW reactor, because it no longer is authorized to operate. In a request for additional information, the staff asked the licensee to propose wording for making changes to the UW DP. The staff also asked the licensee to identify the sections of the DP that would not be subject to the proposed change process and would require prior Commission approval to be made.

The NRC staff has reviewed the proposed change process by the licensee and concludes that it will allow the licensee to make changes to the DP without prior Commission approval consistent with the intent of the 10 CFR 50.59 process. Therefore, the licensee's proposed change process is acceptable to the staff. The staff has also reviewed the sections of the DP that the licensee proposes not to change without prior Commission approval. These sections concern the DECON decommissioning option chosen by the licensee, the criteria proposed by the licensee and approved by the Commission for unrestricted release of the facility and the site, the Technical and Safety Committee, which is a requirement of the technical specifications, and the radiation exposure limits, which are a requirement of the regulations in 10 CFR part 20. Therefore the licensee's proposed list of DP sections not subject to the change process is acceptable to the staff.

IV

Accordingly, pursuant to sections 104c, 161b, 161i, 161o, 182, and 186 of the Atomic Energy Act of 1954, as amended, and the Commission's regulations in 10 CFR 2.202 and 10 CFR part 50, It is hereby ordered that:

The University of Washington Nuclear Reactor Decommissioning Plan dated July 1994 be modified to add the following:

10.0 Decommissioning Plan Change Process

(a) Definitions for the purposes of this section:

(1) Change means a modification or addition to, or removal from, the facility or procedures that affects a design function, method of performing or controlling the function, or an evaluation that demonstrates that intended functions will be accomplished.

(2) Departure from a method of evaluation described in the Decommissioning Plan (as updated) used in establishing the design bases or in the safety analyses means:

(i) Changing any of the elements of the method described in the Decommissioning Plan (as updated) unless the results of the analysis are conservative or essentially the same; or

(ii) Changing from a method described in the Decommissioning Plan to another method unless that method has been approved by NRC for the intended application.

(3) Facility as described in the Decommissioning Plan (as updated) means:

(i) The structures, systems, and components (SSC) that are described in the Decommissioning Plan (as updated),

(ii) The design and performance requirements for such SSCs described in the Decommissioning Plan (as updated), and

(iii) The evaluations or methods of evaluation included in the Decommissioning Plan (as updated) for such SSCs which demonstrate that their intended function(s) will be accomplished.

(4) Decommissioning Plan (as updated) means the Decommissioning Plan submitted and approved by the Commission, as amended and supplemented, and as updated per the requirements of Sec. 50.71, as applicable.

(5) Procedures as described in the Decommissioning Plan (as updated) means those procedures that contain information described in the Decommissioning Plan (as updated) such as how structures, systems, and components are operated and controlled (including assumed operator actions and response times).

(6) Tests or experiments not described in the Decommissioning Plan (as updated) means any activity where any structure, system, or component is utilized or controlled in a manner which is either:

(i) Outside the reference bounds of the design bases as described in the Decommissioning Plan (as updated) or

(ii) Inconsistent with the analyses or descriptions in the Decommissioning Plan (as updated).

(b)(1) The University may make changes in the facility as described in the Decommissioning Plan (as updated), make changes in the procedures as described in the Decommissioning Plan (as updated), and conduct tests or experiments not described in the Decommissioning Plan (as updated) without obtaining Commission approval only if:

(i) A change to the technical specifications incorporated in the license is not required, and

(ii) The change, test, or experiment does not meet any of the criteria in paragraph (b)(2) of this section.

(2) The University shall obtain Commission approval prior to implementing a proposed change, test, or experiment if the change, test, or experiment would:

(i) Result in more than a minimal increase in the frequency of occurrence of an accident previously evaluated in the Decommissioning Plan (as updated);

(ii) Result in more than a minimal increase in the likelihood of occurrence of a malfunction of a structure, system, or component (SSC) important to safety previously evaluated in the Decommissioning Plan (as updated);

(iii) Result in more than a minimal increase in the consequences of an accident previously evaluated in the Decommissioning Plan (as updated);

(iv) Result in more than a minimal increase in the consequences of a malfunction of an SSC important to safety previously evaluated in the Decommissioning Plan (as updated);

(v) Create a possibility for an accident of a different type than any previously evaluated in the Decommissioning Plan (as updated);

(vi) Result in a departure from a method of evaluation described in the Decommissioning Plan (as updated) used in establishing the design bases or in the safety analyses.

(3) In implementing this paragraph, the Decommissioning Plan (as updated) is considered to include Decommissioning Plan changes pursuant to this condition and changes ordered by the Commission.

(4) The provisions in this section do not apply to changes to the facility or procedures when the applicable regulations establish more specific criteria for accomplishing such changes.

(c)(1) The licensee shall maintain records of changes in the facility, of changes in procedures, and of tests and experiments made pursuant to paragraph (b) of this section. These records must include a written evaluation which provides the bases for the determination that the change, test, or experiment does not require Commission approval pursuant to paragraph (b)(2) of this section.

(2) The licensee shall submit, as specified in 10 CFR 50.4, a report containing a brief description of any changes, tests, and experiments, including a summary of the evaluation of each. A report must be submitted at intervals not to exceed 24 months.

(3) The records of changes in the facility must be maintained until the termination of a license issued pursuant to 10 CFR Part 50. Records of changes in procedures and records of tests and experiments must be maintained for a period of 5 years.

(d) The following sections of the Decommissioning Plan (as amended) are not subject to the Decommissioning Plan change process: 1.3.1, 2.1, 1.3.7.1, 1.3.7.2, 2.6, 2.3.2, and 3.2.2.

V

Any person adversely affected by this Order may request a hearing on this Order within 20 days of the date of this Order. Where good cause is shown, consideration will be given to extending the time to request a hearing. A request for an extension must be made in writing to the Director, Office of Nuclear Reactor Regulation, U.S. Nuclear Regulatory Commission, Washington, DC 20555, and must include a statement of good cause for the extension.

A request for a hearing or a petition for leave to intervene must be filed (1) by first class mail addressed to the Office of the Secretary of the Commission, U.S. Nuclear Regulatory Commission, Washington, DC 20555-0001, Attention: Rulemaking and Adjudications Staff; (2) by courier, express mail, and expedited delivery services to the Office of the Secretary, Sixteenth Floor, One White Flint North, 11555 Rockville Pike, Rockville, Maryland, 20852, Attention: Rulemaking and Adjudications Staff; (3) by e-mail addressed to the Office of the Secretary, U.S. Nuclear Regulatory Commission, hearingdocket@nrc.gov; or (4) by facsimile transmission addressed to the Office of the Secretary, U.S. Nuclear Regulatory Commission, Washington, DC, Attention: Rulemakings and Adjudications Staff at 301-415-1101 (the verification number is 301-415-1966). A copy of the request for hearing and petition for leave to intervene must also be sent to the Office of the General Counsel, U.S. Nuclear Regulatory Commission, Washington, DC 20555-0001, and NRC requests that copies be transmitted either by facsimile transmission to 301-415-3725 or by e-mail to OGCMailCenter@nrc.gov. A copy of the request for hearing and petition for leave to intervene should also be sent to the licensee. The licensee's contact for this is Stanley J. Addison, UW Radiation Safety Officer, University of Washington, Environmental Health and Safety, 201 Hall Health Center, Box 354400, Seattle, Washington 98195-4400.

If a person other than the licensee requests a hearing, he or she shall set forth with particularity the manner in which his or her interest is adversely affected by this Order and shall address the criteria set forth in 10 CFR 2.309.

If a hearing is requested by the licensee or a person whose interest is adversely affected, the Commission will issue an order designating the time and place of any hearing. If a hearing is held, the issue to be considered at such hearing shall be whether this Order should be sustained.

In the absence of any request for a hearing or written approval of an extension of time in which to request a hearing, the provisions specified in section IV above shall be effective and final 20 days from the date of this Order without further order or proceedings. If an extension of time for requesting a hearing has been approved, the provisions specified in section IV shall be final when the extension expires if a hearing request has not been received.

For further information see the application from the licensee dated October 27, 2004 (ML043090558), as supplemented on March 18 (ML050900307) and September 28, 2005 (ML052770539), and the staff's safety evaluation dated January 31, 2006 (ML052910487), available for public inspection at the Commission's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html (use the ADAMS ML numbers given above). Persons who do not have access to ADAMS or who have problems in accessing the documents in ADAMS should contact the NRC PDR reference staff by telephone at 1-800-397-4209 or 301-415-4737 or by e-mail to pdr@nrc.gov.

For the Nuclear Regulatory Commission.
Dated this 31st day of January 2006.
Christopher I. Grimes,
Director, Division of Policy and Rulemaking, Office of Nuclear Reactor Regulation.

[FR Doc. E6-1625 Filed 2-6-06; 8:45 am]

BILLING CODE 7590-01-P